DEPARTMENT OF ENERGY

Federal Energy Regulatory Commission

Combined Notice of Filings

Take notice that the Commission has received the following Natural Gas Pipeline Rate and Refund Report filings:

Docket Numbers: RP20-323-000.

Applicants: Bear Creek Storage Company, L.L.C.

Description: Compliance filing Annual Fuel Assessment 2019 to be effective N/A.

Filed Date: 12/12/19.

Accession Number: 20191212-5043.

Comments Due: 5 p.m. ET 12/24/19.

Docket Numbers: RP20-324-000.

Applicants: Wyoming Interstate Company, L.L.C.

Description: § 4(d) Rate Filing: Non-Conforming Agreements Update (EnerVest) to be effective 1/1/2020.

Filed Date: 12/12/19.

Accession Number: 20191212-5084.

Comments Due: 5 p.m. ET 12/24/19.

Docket Numbers: RP20-325-000.

Applicants: Florida Gas Transmission Company, LLC.

Description: § 4(d) Rate Filing: Service Agreement with FPU Filing on 12-12-19 to be effective 1/1/2020.

Filed Date: 12/12/19.

Accession Number: 20191212-5141.

Comments Due: 5 p.m. ET 12/24/19.

Docket Numbers: RP20-326-000.

Applicants: Florida Gas Transmission Company, LLC.

Description: § 4(d) Rate Filing: Update Non-Conforming List (FPU) and Negotiated Rate Record to be effective 1/1/2020.

Filed Date: 12/12/19.

Accession Number: 20191212-5153.

Comments Due: 5 p.m. ET 12/24/19.

Docket Numbers: RP20-327-000.

Applicants: Southern Star Central Gas Pipeline, Inc.

Description: § 4(d) Rate Filing: Vol.2—Negotiated Rate Agreements—Spotlight to be effective 12/12/2019.

Filed Date: 12/12/19.

Accession Number: 20191212-5171.

Comments Due: 5 p.m. ET 12/24/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 13, 2019.
Nathaniel J. Davis, Sr.,
Deputy Secretary.

[FR Doc. 2019-27497 Filed 12-19-19; 8:45 am]

BILLING CODE 6717-01-P